DEPARTMENT OF COMMERCE

Bureau of Economic Analysis

Agency Information Collection Activities; Submission to the Office of Management and Budget (OMB) for Review and Approval; Comment Request; Services Surveys: BE-140, Benchmark Survey of Insurance Transactions by U.S. Insurance Companies With Foreign Persons

AGENCY: Bureau of Economic Analysis, Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before September 18, 2023.

ADDRESSES: Interested persons are invited to submit written comments to Christopher Stein, Chief, Services Surveys Branch, Bureau of Economic Analysis, by email to christopher.stein@bea.gov or PRAcomments@doc.gov. Please reference OMB Control Number 0608-0073 in the subject line of your comments. Do not submit Confidential Business Information or otherwise sensitive or protected information.

FOR FURTHER INFORMATION CONTACT: Requests for additional information or specific questions related to collection activities should be directed to Christopher Stein, Chief, Services Surveys Branch, Bureau of Economic Analysis; 301-278-9189; or via email at christopher.stein@bea.gov.

SUPPLEMENTARY INFORMATION:

I. Abstract

The Benchmark Survey of Insurance Transactions by U.S. Insurance Companies with Foreign Persons (Form BE-140) is a periodic survey, conducted every five years, that collects data from U.S. persons who engage in international trade in covered insurance transactions. This mandatory benchmark survey, conducted under the authority of the International Investment and Trade in Services Survey Act, covers the universe of transactions in insurance services with foreign persons and is BEA's most comprehensive survey of such transactions. The survey was last conducted in 2019, covering the 2018 reporting year. A response is required from U.S. persons subject to the reporting requirements of the BE-140, whether or not they are contacted by BEA, to ensure complete coverage of transactions in insurance services between U.S. and foreign persons. A U.S. person means any individual, branch, partnership, associated group, association, estate, trust, corporation, or other organization (whether or not organized under the laws of any State), resident in the United States or subject to the jurisdiction of the United States. A U.S. person must report if they had transactions with foreign persons in the categories covered by the survey during the 2023 calendar year. For U.S. persons that had combined transactions that were $2 million or less (based on absolute value) in the insurance services covered by the survey for calendar year 2023, a completed benchmark would include totals for each type of transaction in which they engaged. A U.S. person whose combined transactions with foreign persons exceeded $2 million (based on absolute value) in the insurance categories covered by the survey for calendar year 2023, is required to provide data on the total transactions of each of the covered types of insurance transactions and must disaggregate the totals by country and by relationship to the foreign counterparty (foreign affiliate, foreign parent group, or unaffiliated).

The data are needed to monitor U.S. trade in insurance services, to analyze the impact of these cross-border services on the U.S. and foreign economies, to compile and improve the U.S. economic accounts, to support U.S. commercial policy on trade in services, to conduct trade promotion, and to improve the ability of U.S. businesses to identify and evaluate market opportunities. The data are used in estimating the trade in insurance services component of the U.S. international transactions accounts (ITAs) and national income and product accounts (NIPAs).

The Bureau of Economic Analysis (BEA) is proposing to make several modifications to the survey for 2023 to further align BEA's statistics with international guidelines and to collect additional information that can be used to improve the current estimation methodologies for published insurance services transactions, increasing the quality and usefulness of BEA's statistics on trade in insurance services. To evaluate the feasibility of these changes, BEA conducted outreach to a sample of nine respondents to the Quarterly Survey of Insurance Transactions by U.S. Insurance Companies with Foreign Persons (BE-45). Reporter feedback gathered substantiated the ability of the respondents to comply with the additional data requests, and that the survey changes should not impose a material increase in reporting burden.

BEA does not plan to change the exemption levels used for the previous benchmark survey in 2018.

BEA proposes to:

(1) Add a question to collect information on the largest states, districts, or territories (up to three) for exports and imports of services. This information would be required of all survey respondents and would allow BEA to produce estimates of the value of exports and imports of services by U.S. state for the first time.

(2) Add a question on employment size class. This information would be required of all survey respondents to aid in identifying the number of small businesses reporting on the survey, and the volume of services trade data reported by small businesses.

(3) Better distinguish between life insurance and nonlife insurance for exports of direct insurance by separately collecting a percentage break out of the U.S. Reporter's global totals for premiums and losses on direct insurance exports for the categories of insurance with a savings component, freight, property and casualty, and other. This detail would be required from all reporters and collection would result in multiple methodological improvements, notably, enabling BEA to publish direct insurance broken down as suggested by international guidelines.

(4) Directly collect premium supplements for exports and use reported data to improve the estimation of premium supplements for imports. Only those reporters subject to filing country and affiliation detail on the mandatory schedules (i.e., those reporters exceeding $2 million in combined transactions, based on absolute value) will be required to respond to this question.

BEA also plans to discontinue the collection of the question requesting the U.S. Reporter's organization type and would no longer collect information on reinsurance reserve transfers (Schedule C) and catastrophic losses (Schedule D). These items are no longer necessary given other modifications made to the survey.

BEA estimates there will be minimal impact to the reporting burden because the burden associated with the additional data items required on the survey should not require an extensive search within company records, and burden associated with these new items will be offset by burden reductions from deleted survey items. Proposals one and two should not affect burden because BEA believes these data to be readily available in reporter records, or can be provided by many respondents based on recall, without the need to search existing records. Additionally, proposal three is a minor modification to data already collected on the 2018 BE-140 benchmark survey. Survey respondents who provided a breakout of direct insurance into life, freight, and other in 2018 will now be required to report transactions in insurance with a savings component, freight, property and casualty, and other. The additional category should have minimal impact on reporters, because, in 2018 reporters had to separately identify these transactions in order to classify them among the three categories used on the previous benchmark survey. BEA estimates there will be a 0.5 hour increase in reporting burden associated with the collection of detail on premium supplements, proposal four. However, this additional data will only be required of respondents required to report country and affiliation detail on the mandatory schedules, whom BEA believes will also see a comparable reduction in burden associated with the elimination of Schedules C and D from the survey.

Therefore, although there are some expected increases in burden, BEA believes these increases to be negligible and primarily offset by a reduction in burden from data collected in 2018 which will no longer be collected on the 2023 survey. BEA believes the additional data is readily available in existing company accounting records, and therefore average burden for completing the survey will continue to be 5 hours per response. The language in the instructions and definitions will be reviewed and adjusted as necessary to clarify survey requirements.

II. Method of Collection

BEA will contact potential respondents by mail in January of 2024 to announce the upcoming benchmark survey. Respondents would then be notified in May 2024 that a completed BE-140 form is due July 31, 2024. Reports would be required from each U.S. person that had transactions in the covered insurance services with foreign persons during 2023. A response is required from persons subject to the reporting requirements of the BE-140 Benchmark Survey of Insurance Transactions by U.S. Insurance Companies with Foreign Persons, whether or not they are contacted by BEA.

BEA offers its electronic filing option, the eFile system, for use in reporting on Form BE-140. For more information about eFile, go to www.bea.gov/efile. In addition, BEA posts all its survey forms and reporting instructions on its website, www.bea.gov/ssb. These may be downloaded, completed, printed, and submitted via fax or mail.

III. Data

OMB Control Number: 0608-0073.

Form Number(s): BE-140.

Type of Review: Regular submission.

Affected Public: Business or other for-profit organizations.

Estimated Number of Respondents: 1,300 annually (1,000 reporting mandatory data and 300 that would file exemption claims or voluntary responses).

Estimated Time per Response: 9 hours is the average for the 600 respondents filing data by country and affiliation; 2 hours for the 400 respondents filing data by transaction type only, and 1 hour for those filing an exemption claim or other response. Hours may vary considerably among respondents because of differences in company size and complexity.

Estimated Total Annual Burden Hours: 6,500.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary of Economic Affairs, Commerce Department.

[FR Doc. 2023-15276 Filed 7-18-23; 8:45 am]

BILLING CODE 3510-06-P